DEPARTMENT OF DEFENSE

Office of the Secretary

[Docket ID DoD-2014-OS-0087]

Submission for OMB Review; Comment Request

ACTION: Notice.

SUMMARY: The Department of Defense has submitted to OMB for clearance, the following proposal for collection of information under the provisions of the Paperwork Reduction Act.

DATES: Consideration will be given to all comments received by September 2, 2014.

FOR FURTHER INFORMATION CONTACT: Fred Licari, 571-372-0493.

SUPPLEMENTARY INFORMATION:

Title, Associated Form and OMB Number: Record of Military Processing—Armed Forces of the United States; USMEPCOM Form 680-3A-E, DD Form 1966; OMB Control Number 0704-0173.

Type of Request: Revision.

USMEPCOM Form 680-3A-E:

Annual Burden Hours: 155,100 hours.

Number of Respondents: 423,000.

Responses per Respondent: 1.

Total Annual Responses: 423,000.

Average Burden per Response: 22 minutes.

DD Form 1966:

Annual Burden Hours: 141,000 hours.

Number of Respondents: 423,000.

Responses per Respondent: 1.

Total Annual Responses: 423,000.

Average Burden per Response: 20 minutes.

Total Annual Burden Hours: 296,100 hours.

Needs and Uses: This information collection requirement is necessary to gather the required data for determining eligibility to join the Armed Forces and for establishing personal records on those enlisting. USMEPCOM Form 680-3A-E serves as the initial medical release authorization, processing checklist and security verification form for applicants applying for military service to record qualification requirements. Information collected on USMEPCOM Form 680-3A-E is transferred electronically into DD Form 1966 and helps decrease administration time required to complete the applicant's record.

Affected Public: Individuals or households

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: July 24, 2014.
Aaron Siegel,
Alternate OSD Federal Register Liaison Officer, Department of Defense.

[FR Doc. 2014-17789 Filed 7-30-14; 8:45 am]

BILLING CODE 5001-06-P